DEPARTMENT OF DEFENSE

48 CFR Part 245

Defense Federal Acquisition Regulation Supplement; Government Property/Unique Identification/Item Marking

AGENCY: Department of Defense (DoD).

ACTION: Advance notice of proposed rulemaking and notice of public meeting.

SUMMARY: DoD is soliciting comments from both government and industry regarding potential changes to Defense Federal Acquisition Regulation Supplement (DFARS) policy on government property in the possession of contractors. These changes relate to item marking and valuing (providing cost information) for tangible items (i.e., contractor acquired property and tangible item deliverables). DoD will hold a public meeting to discuss the potential changes and to hear the views of interested parties.

DATES: Public Meeting: The public meeting will be held at the address shown below on May 28, 2003, from 8:30 a.m. to 4 p.m., local time.

Submission of Names of Expected Attendees: The names of individuals expected to attend the public meeting should be provided to the point of contact shown below no later than May 21, 2003.

Submission of Comments: Written comments on the potential DFARS changes should be submitted to the address shown below no later than June 9, 2003.

ADDRESSES: Public Meeting: The public meeting will be held at Logistics Management Institute (LMI), 2000 Corporate Ridge, McClean, VA 22102-7805; telephone (703) 917-9800. Directions to LMI can be obtained at http://www.lmi.org.

Submission of Names of Expected Attendees: The names of individuals expected to attend the public meeting should be provided to Ms. Claudia Low, by telephone at (703) 917-7264; by FAX at (703) 917-7066; by e-mail at clow@lmi.org; or by mail at Logistics Management Institute, 2000 Corporate Ridge, McClean, VA 22102-7805. Walk-in attendance will be accommodated. However, pre-registration is preferred. The LMI general phone number is (703) 917-7800.

Submission of Comments: Interested parties should submit written comments to Mr. Michael Canales, by mail at OUSD(AT&L)DPAP(P), 3060 Defense Pentagon, Washington, DC 20301-3060; by e-mail at Michael.Canales@osd.mil; or by FAX at (703) 614-1254.

FOR FURTHER INFORMATION CONTACT: Mr. Michael Canales, telephone (703) 695-8571.

SUPPLEMENTARY INFORMATION:

A. Draft Materials

The potential DFARS changes will be made available in draft form in Microsoft Word 6.0 text format at http://www.acq.osd.mil/dpap. The draft changes do not reflect a proposed rule, but are provided for discussion purposes only.

B. Background

During the past 6 months, DoD has issued a series of policy memorandums (available at http://www.acq.osd.mil/dpap) and held numerous meetings with government and industry personnel on this particular subject. In addition, DoD continues with its effort to transform the DFARS. As part of this effort, DoD is considering significant changes to DFARS part 245, Government Property. The purpose of this notice is to provide the public with a preliminary indication of changes under consideration, and to solicit public comments on those changes. After consideration of comments received in response to this notice and during the public meeting, DoD plans to publish two proposed DFARS rules, one on item marking and one on item value, for additional public comment.

Michele P. Peterson,
Executive Editor, Defense Acquisition Regulations Council.

[FR Doc. 03-11726 Filed 5-9-03; 8:45 am]

BILLING CODE 5001-08-P